ENVIRONMENTAL PROTECTION AGENCY

[FRL -7411-2]

EPA Science Advisory Board Executive Committee Teleconference; Notification of Public Advisory Committee Meeting

Pursuant to the Federal Advisory Committee Act, Public Law 92-463, notice is hereby given that the Executive Committee of the U.S. EPA Science Advisory Board (SAB) will meet on Thursday, December 5, 2002, from 11 a.m.-2 p.m. eastern time. The meeting will be coordinated through a conference call connection in Room 6013 in the USEPA, Ariel Rios Building, 1200 Pennsylvania Avenue, NW., Washington, DC 20460. The public is encouraged to attend the meeting in the conference room noted above. However, the public may also attend through a telephonic link, to the extent that lines are available. Additional instructions about how to participate in the conference call can be obtained by calling Ms. Diana Pozun (see contact information below). The meeting is open to the public, however, seating is limited and available on a first come basis. Important Notice: Documents that are the subject of SAB reviews are normally available from the originating EPA office and are not available from the SAB Office—information concerning availability of documents from the relevant Program Office is included in the FR citations given below.

Purpose of the Meeting—In this meeting, the Executive Committee plans to review reports from some of its Committees/Subcommittee, most likely including the following:

(a) Executive Committee Subcommittee—Scientific and Technological Achievement Awards Subcommittee (STAA)—Recommendations on the Agency's FY2001 Scientific and Technological Achievement Awards Program: An SAB Report (see 67 FR 44200 (July 1, 2002), for further details).

(b) Environmental Economics Advisory Committee (EEAC)—Affordability: An SAB Report (see 67 FR 46506 (July 15, 2002), for further details).

Please check with Ms. Diana Pozun (see contact information below) prior to the meeting to determine which reports will be on the agenda as last minute changes can take place.

Availability of Review Materials: Drafts of the SAB reports that will be reviewed at the meeting will be available to the public at the SAB website under the heading for the Executive Committee Public Teleconference, December 5, 2002, (http://www.epa.gov/sab/whatsnew.htm) approximately two weeks prior to the meeting.

Charge to the Executive Committee: The focus of the EC review of these reports will be on the following questions: (a) Has the SAB adequately responded to the questions posed in the Charge? (b) Are the statements and/or responses in the draft report clear? And (c) Are there any errors of fact in the report? (Note: In the case of the STAA report, the charge to the committee was to review over 100 scientific papers and make recommendations for awards. The draft report that will be available for comment at this meeting will only contain the description of the overall process and recommendations on that process. The actual award recommendations are embargoed until approved and processed by the Office of Research and Development. The final report that will be posted on the SAB website, once awards are announced, will include the complete list of recommended awards.)

In accord with the Federal Advisory Committee Act (FACA), the public and the Agency are invited to submit written comments on these three questions that are the focus of the review. Written comments should be received in the SAB Staff Office by November 27, 2002. Forward comments to Ms. Diana Pozun (see contact information below).

The SAB will have a brief period available for applicable public comment. Therefore, anyone wishing to make oral comments on the three focus questions above, but that are not duplicative of the written comments, should contact the Designated Federal Officer for the Executive Committee, Mr. A. Robert Flaak (see contact information below).

For Further Information—Any member of the public wishing further information concerning this meeting or wishing to submit brief oral comments (3 minutes or less) must contact Mr. A. Robert Flaak, Designated Federal Officer, EPA Science Advisory Board (1400A), U.S. Environmental Protection Agency, 1200 Pennsylvania Avenue, NW., Washington, DC 20460; telephone (202) 564-4546; FAX (202) 501-0582; or via e-mail at flaak.robert@epa.gov. Requests for oral comments must be in writing (e-mail, fax or mail) and received by Mr. Flaak no later than noon eastern standard time on November 27, 2002. Written comments should be sent to: Ms. Diana Pozun, EPA Science Advisory Board, Mail Code 1400A, U.S. Environmental Protection Agency, 1200 Pennsylvania Avenue, NW., Washington, DC 20460 (Telephone (202) 564-4544, FAX (202) 501-0323; or via e-mail at: pozun.diana@epa.gov. Submission by e-mail to Ms. Pozun will maximize the time available for review by the Executive Committee.

Providing Oral or Written Comments at SAB Meetings

It is the policy of the EPA Science Advisory Board to accept written public comments of any length, and to accommodate oral public comments whenever possible. The EPA Science Advisory Board expects that public statements presented at its meetings will not be repetitive of previously submitted oral or written statements. Oral Comments: In general, each individual or group requesting an oral presentation at a face-to-face meeting will be limited to a total time of 10 minutes (unless otherwise indicated above). For teleconference meetings, opportunities for oral comment will usually be limited to no more than three minutes per speaker and no more than 15 minutes total. Deadlines for getting on the public speaker list for a meeting are given above. Speakers should bring at least 35 copies of their comments and presentation slides for distribution to the reviewers and public at the face-to-face meetings. Written Comments: Although the SAB accepts written comments until the date of the meeting (unless otherwise stated), written comments should be received in the SAB Staff Office at least one week prior to the meeting date so that the comments may be made available to the committee for their consideration. Comments should be supplied to the appropriate DFO at the address/contact information noted above in the following formats: one hard copy with original signature, and one electronic copy via e-mail (acceptable file format: WordPerfect, Word, or Rich Text files (in IBM-PC/Windows 95/98 format). Those providing written comments and who attend face-to-face meeting are also asked to bring 35 copies of their comments for public distribution.

General Information—Additional information concerning the EPA Science Advisory Board, its structure, function, and composition, may be found on the SAB Website (http://www.epa.gov/sab) and in The FY2001 Annual Report of the Staff Director which is available from the SAB Publications Staff at (202) 564-4533 or via fax at (202) 501-0256. Committee rosters, draft Agendas and meeting calendars are also located on our website.

Meeting Access—Individuals requiring special accommodation at this meeting, including wheelchair access to the conference room, should contact Mr. Flaak at least five business days prior to the meeting so that appropriate arrangements can be made.

Dated: November 13, 2002.
Vanessa Vu,
Director, EPA Science Advisory Board Staff Office.

[FR Doc. 02-29478 Filed 11-19-02; 8:45 am]

BILLING CODE 6560-50-P